DEPARTMENT OF ENERGY

Federal Energy Regulatory Commission

[Docket Nos. RP00-397-004 and RP01-33-006]

Questar Pipeline Company; Notice of Compliance Filing

October 8, 2002.

Take notice that on September 26, 2002, Questar Pipeline Company (Questar) tendered for filing as part of its FERC Gas Tariff, First Revised Volume No. 1, certain tariff sheets, with an effective date of August 1, 2002.

Questar states that the filing is being made in compliance with the Commission's August 27, 2002 order in Docket No. RP00-397.

Questar states that a copy of the filing has been served upon its customers, the Public Service Commission of Utah and the Public Service Commission of Wyoming.

Any person desiring to protest said filing should file a protest with the Federal Energy Regulatory Commission, 888 First Street, NE., Washington, DC 20426, in accordance with section 385.211 of the Commission's rules and regulations. All such protests must be filed on or before October 15, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 502-8659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-26095 Filed 10-11-02; 8:45 am]

BILLING CODE 6717-01-P